DEPARTMENT OF ENERGY

Federal Energy Regulatory Commission

[Project No. 14504-000]

FFP Project 121, LLC; Notice of Preliminary Permit Application Accepted for Filing and Soliciting Comments, Motions To Intervene, and Competing Applications

On March 1, 2013, FFP Project 121, LLC filed an application for a preliminary permit under section 4(f) of the Federal Power Act proposing to study the feasibility of the proposed New Cumberland Locks and Dam Hydroelectric Project No. 14504-000, to be located at the existing New Cumberland Locks and Dam on the Ohio River, near the Town of Stratton, in Jefferson County, Ohio and the Town of New Cumberland, in Hancock County, West Virginia. The New Cumberland Locks and Dam is owned by the United States government and operated by the U.S. Corps of Engineers.

The proposed project would consist of: (1) A new 250-foot-wide by 380-foot-long forebay; (2) a new 220-foot by 250-foot reinforced concrete powerhouse; (3) three new 16.6 megawatt (MW) horizontal bulb turbine-generators having a total combined generating capacity of 49.8 MW; (4) a new 300-foot-long concrete retaining wall downstream of the powerhouse; (5) a new 300-foot-wide by 515-foot-long tailrace area; (6) a new 60-foot-wide by 60-foot-long substation; (7) a new 0.8-mile-long, 36.7-kilovolt transmission line; and (8) appurtenant facilities. The project would have an estimated annual generation of 251,600 megawatt-hours.

Applicant Contact: Daniel Lissner, 239 Causeway Street, Suite 300, Boston, MA 02114; (978) 252-7111.

FERC Contact: Tyrone A. Williams, (202) 502-6331.

Deadline for filing comments, motions to intervene, and competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and five copies to: Kimberly D. Bose, Secretary, Federal Energy Regulatory Commission, 888 First Street, NE., Washington, DC 20426.

More information about this project, including a copy of the application can be viewed or printed on the “eLibrary” link of Commission's Web site at http://www.ferc.gov/docs-filing/elibrary.asp. Enter the docket number (P-14504) in the docket number field to access the document. For assistance, contact FERC Online Support.

Dated: March 19, 2013.
Kimberly D. Bose,
Secretary.

[FR Doc. 2013-06817 Filed 3-25-13; 8:45 am]

BILLING CODE 6717-01-P